U.S. DEPARTMENT OF COMMERCE

Foreign-Trade Zones Board

[B-45-2015]

Foreign-Trade Zone (FTZ) 277—Western Maricopa County, Arizona; Notification of Proposed Production Activity;The Cookson Company, Inc. (Rolling Steel Doors); Goodyear, Arizona

The Cookson Company, Inc. (Cookson) submitted a notification of proposed production activity to the FTZ Board for its facility in Goodyear, Arizona within FTZ 277. The notification conforming to the requirements of the regulations of the FTZ Board (15 CFR 400.22) was received on July 13, 2015.

The Cookson facility is located within Site 11 of FTZ 277. The facility is used for the assembly and production of rolling steel doors. Pursuant to 15 CFR 400.14(b), FTZ activity would be limited to the specific foreign-status materials and components and specific finished products described in the submitted notification (as described below) and subsequently authorized by the FTZ Board.

Production under FTZ procedures could exempt Cookson from customs duty payments on the foreign status components used in export production. On its domestic sales, Cookson would be able to choose the duty rates during customs entry procedures that apply to rolling steel doors (duty-free) for the foreign status inputs noted below. Customs duties also could possibly be deferred or reduced on foreign status production equipment.

The components and materials sourced from abroad include: hand and roller steel chains; limit switches; single-phase AC electric motors/gear motors; multi-phase AC electric motors/gear motors; steel cranks; motor overload protectors; mounted and unmounted timers for door closure assemblies; power boards; transformers (40VA or greater); electro-mechanical alarm interfaces; fire door testing releases and converter mechanisms; steel door limits; contactors; battery backups; and, steel bolts (duty rate ranges from duty-free to 6.6%).

Public comment is invited from interested parties. Submissions shall be addressed to the Board's Executive Secretary at the address below. The closing period for their receipt is August 31, 2015.

A copy of the notification will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For further information, contact Elizabeth Whiteman at Elizabeth.Whiteman@trade.gov or (202) 482-0473.

Dated: July 15, 2015.
Andrew McGilvray,
Executive Secretary.

[FR Doc. 2015-17749 Filed 7-17-15; 8:45 am]

BILLING CODE 3510-DS-P